DEPARTMENT OF TRANSPORTATION

Federal Aviation Administration

14 CFR Part 39

[Docket No. FAA-2014-0145; Directorate Identifier 2013-NM-183-AD]

RIN 2120-AA64

Airworthiness Directives; Dassault Aviation Model FALCON 7X Airplanes

AGENCY: Federal Aviation Administration (FAA), DOT.

ACTION: Notice of proposed rulemaking (NPRM).

SUMMARY: We propose to adopt a new airworthiness directive (AD) for all Dassault Aviation Model FALCON 7X airplanes. This proposed AD was prompted by reports that the pintle pins installed on a certain number of airplanes may be incorrectly protected against corrosion. This proposed AD would require replacing certain pintle pins on the left- and right-hand main landing gear (MLG) with a serviceable part. We are proposing this AD to detect and correct pintle pins that have been incorrectly corrosion-protected, which could cause the pintle pins to shear under normal load and lead to the collapse of the MLG during take-off or landing.

DATES: We must receive comments on this proposed AD by May 9, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425 227-1221.

Examining the AD Docket

You may examine the AD docket on the Internet at http://www.regulations.gov by searching for and locating Docket No. FAA-2014-0145; or in person at the Docket Management Facility between 9 a.m. and 5 p.m., Monday through Friday, except Federal holidays. The AD docket contains this proposed AD, the regulatory evaluation, any comments received, and other information. The street address for the Docket Operations office (telephone (800) 647 5527) is in the ADDRESSES section. Comments will be available in the AD docket shortly after receipt.

FOR FURTHER INFORMATION CONTACT: Tom Rodriguez, Aerospace Engineer, International Branch, ANM 116, Transport Airplane Directorate, FAA, 1601 Lind Avenue SW., Renton, WA 98057-3356; phone: (425) 227-1137; fax: (425) 227-1149.

SUPPLEMENTARY INFORMATION:

Comments Invited

We invite you to send any written relevant data, views, or arguments about this proposed AD. Send your comments to an address listed under the ADDRESSES section. Include “Docket No. FAA-2014-0145; Directorate Identifier 2013-NM-183-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0162, dated July 24, 2013 (referred to after this as the Mandatory Continuing Airworthiness Information, or “the MCAI”), to correct an unsafe condition for the specified products. The MCAI states:

Messier-Bugatti-Dowty, the manufacturer of the landing gears of the Falcon 7X aeroplanes, has advised that pintle pins Part Number (P/N) 55-2355007-01 being installed on a certain number of aeroplanes may be incorrectly protected against corrosion. These pins are designed to shear in case of excessive loads on the main landing gears so that structural damage would be contained after a landing gear collapse. The cadmium-coating inside the bore of suspect pins may not be compliant to the original thickness specifications. Inspection of a few removed parts in service revealed that traces of limited corrosion can be found on an unstressed area of the pins. Messier-Bugatti-Dowty identified a list of potentially affected pintle pins and subsequently, Dassault Aviation identified on which aeroplanes those pintle pins were installed.

This condition, if not corrected, may lead to corrosion of the pins and ultimately cause them to shear under normal load. This could result in landing gear collapse during take-off or landing.

To address this condition, Dassault Aviation, with the support of Messier-Bugatti-Dowty, developed Service Bulletin (SB) F7X-182 to provide instructions for removal of potentially affected pintle pins and replacement with serviceable parts.

For the reasons described above, this [EASA] AD requires replacement of pintle pins on affected airplanes. This [EASA] AD also prohibits installation of a potentially affected part on an aeroplane.

You may examine the MCAI in the AD docket on the Internet at http://www.regulations.gov by searching for and locating it in Docket No. FAA-2014-0145.

Relevant Service Information

Dassault Aviation has issued Mandatory Service Bulletin 7X-182, Revision 4, dated July 18, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 42 airplanes of U.S. registry.

We estimate the following costs to comply with this proposed AD:

Estimated Costs
Action | Labor cost | Parts cost | Cost per product | Cost on U.S. operators
Replacement | 20 work-hours × $85 per hour = $1,700 | $17,000 | $18,700 | $785,400

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Dassault Aviation: Docket No. FAA-2014-0145; Directorate Identifier 2013-NM-183-AD.

(a) Comments Due Date

We must receive comments by May 9, 2014.

(b) Affected ADs

None.

(c) Applicability

This AD applies to all Dassault Aviation Model FALCON 7X airplanes, certificated in any category.

(d) Subject

Air Transport Association (ATA) of America Code 32, Main Landing Gear.

(e) Reason

This AD was prompted by reports that the pintle pins installed on a certain number of airplanes may be incorrectly protected against corrosion. We are issuing this AD to detect and correct pintle pins that have been incorrectly corrosion-protected, which could cause the pintle pins to shear under normal load and lead to the collapse of the MLG during take-off or landing.

(f) Compliance

Comply with this AD within the compliance times specified, unless already done.

(g) Replacement

For airplanes having serial numbers 4 through 6 inclusive; 9, 12, 19, 21 through 25 inclusive; 29, 32, 33, 37, 39 through 42 inclusive; 45, 49 through 53 inclusive; 55, 56, 62, 63, 65, 67 through 69 inclusive; and 81, 82, 84, and 120: Within 2 months after the effective date of this AD, replace the pintle pins having part number (P/N) 55-2355007-01 on the left- and right-hand MLG with a serviceable part, in accordance with the Accomplishment Instructions of Dassault Aviation Mandatory Service Bulletin 7X-182, Revision 4, dated July 18, 2013.

(h) Parts Installation Prohibition

As of the effective date of this AD, no person may install a pintle pin having P/N 55-2355007-01, with the following serial numbers, on any airplane: EXC-0001, EXC-0003, EXC-0008, EXC-0009, EXC-0010, EXC-0015, EXC-0017, EXC-0018, EXC-0019, EXC-0020, EXC-0022, EXC-0023, EXC-0024, EXC-0025, EXC-0026, EXC-0027, EXC-0029, EXC-0030, EXC-0031, EXC-0033, EXC-0037, EXC-0038, EXC-0040, EXC-0041, EXC-0043, EXC-0044, EXC-0045, EXC-0046, EXC-0047, EXC-0050, EXC-0051, EXC-0052, EXC-0053, EXC-0054, EXC-0057, EXC-0059, EXC-0060, EXC-0061, EXC-0062, EXC-0063, EXC-0064, EXC-0065, EXC-0067, EXC-0069, EXC-0072, EXC-0074, EXC-0075, EXC-0076, EXC-0077, EXC-0078, EXC-0084, EXC-0091, EXC-0092, EXC-0093, EXC-0096, EXC-0098, EXC-0099, EXC-0101, EXC-0102, EXC-0103, EXC-0106, EXC-0107, EXC-0108, EXC-0109, EXC-0110, EXC-0111, EXC-0114, EXC-0115, EXC-0117, EXC-0119, EXC-0120, EXC-0121, EXC-0122, EXC-0123, EXC-0124, EXC-0125, EXC-0126, EXC-0127, EXC-0128, EXC-0129, EXC-0130, EXC-0131, EXC-0132, EXC-0133, EXC-0134, EXC-0135, EXC-0136, EXC-0137, EXC-0138, EXC-0139, EXC-0143, EXC-0144, EXC-0147, EXC-0148, EXC-0149, EXC-0150, EXC-0152, EXC-0153, EXC-0154, EXC-0155, EXC-0158, EXC-0162, EXC-0163, EXC-0164, EXC-0167, EXC-0168, EXC-0170, EXC-0172, EXC-0173, EXC-0175, EXC-0177, EXC-0178, EXC-0183, EXC-0184, EXC-0190, EXC-0192, EXC-0193, EXC-0194, EXC-0197, EXC-0198.

(i) Credit for Previous Actions

This paragraph provides credit for actions required by paragraph (g) of this AD, if those actions were performed before the effective date of this AD using the following service information:

(1) Dassault Aviation Service Bulletin 7X-182, dated December 17, 2010.

(2) Dassault Aviation Service Bulletin 7X-182, Revision 1, dated December 7, 2011.

(3) Dassault Aviation Service Bulletin 7X-182, Revision 2, dated June 1, 2012.

(4) Dassault Aviation Service Bulletin 7X-182, Revision 3, dated February 26, 2013.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; phone: (425) 227-1137; fax: (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the DAH with a State of Design Authority's design organization approval). For a repair method to be approved, the repair approval must specifically refer to this AD. You are required to ensure the product is airworthy before it is returned to service.

(k) Related Information

(1) Refer to Mandatory Continuing Airworthiness Information (MCAI) issued EASA Airworthiness Directive 2013-0162, dated July 24, 2013, for related information. This MCAI may be found in the AD docket on the Internet at http://www.regulations.gov by searching for and locating it in Docket No. FAA-2014-0145.

(2) For service information identified in this AD, contact Dassault Falcon Jet, P.O. Box 2000, South Hackensack, NJ 07606; telephone 201-440-6700; Internet http://www.dassaultfalcon.com. You may view this service information at the FAA, Transport Airplane Directorate, 1601 Lind Avenue SW., Renton, WA. For information on the availability of this material at the FAA, call 425-227-1221.

Issued in Renton, Washington, on March 17, 2014.
Dionne Palermo,
Acting Manager, Transport Airplane Directorate, Aircraft Certification Service.

[FR Doc. 2014-06492 Filed 3-24-14; 8:45 am]

BILLING CODE 4910-13-P